DEPARTMENT OF HEALTH AND HUMAN SERVICES

National Institutes of Health

National Institutes of Health, Precision Medicine Initiative® (PMI) Cohort Program; Notice of Meeting

ACTION: Notice of Meeting.

SUMMARY: Pursuant to the NIH Reform Act of 2006 (42 U.S.C. 281(d)(4)), notice is hereby given that the National Institutes of Health (NIH), Precision Medicine Initiative® (PMI) Cohort Program will host two (2) teleconferences to enable public discussion of its proposal to align the authority and responsibility for the execution of PMI Cohort Program by establishing this program within the NIH Office of the Director, and reporting to the NIH Director.

DATES: Two (2) teleconferences will be held on the following days:

(1) Tuesday, July 5, 2016, 3:00-3:45 p.m. ET

(2) Wednesday, July 13, 2016, 2:00-2:45 p.m. ET

Any interested person may submit their written comments via the form provided at http://grants.nih.gov/grants/rfi/rfi.cfm?ID=59 by Wednesday, July 13, 2016. The message should include the individual's name and organization/professional affiliation, when applicable.

ADDRESSES: Members of the public wishing to attend the July 5 teleconference are asked to Web RSVP by 12:00 p.m., Tuesday, July 5, 2016 at https://www.mymeetings.com/emeet/rsvp/index.jsp?customHeader=mymeetings&Conference_ID=8723518&passcode=2802855; Conference number: 8723518; Passcode: 2802855, Teleconference number: 877-922-4780, Participant passcode: 2802855.

Members of the public wishing to attend the July 13 teleconference are asked to Web RSVP by 11:00 a.m. ET, Wednesday, July 13, 2016, at https://www.mymeetings.com/emeet/rsvp/index.jsp?customHeader=mymeetings&Conference_ID=8723531&passcode=4607754; Conference number: 8723531; Passcode: 4607754, Teleconference number 888-810-5910, Participant passcode: 4607754.

FOR FURTHER INFORMATION CONTACT: The PMI Cohort Program at PrecisionMedicine@nih.gov with subject line “PMI Cohort Program Office Organization.”

SUPPLEMENTARY INFORMATION: The PMI Working Group of the Advisory Committee to the NIH Director (ACD) recommended that the authority and responsibility for the implementation and execution of the PMI Cohort Program be established in the NIH Office of the Director and that the PMI Cohort Program Director report to the NIH Director. On September 17, 2015, the NIH ACD supported the PMI Working Group Report with this recommendation and this report was subsequently accepted by the NIH Director. For additional information about the PMI Cohort Program, please visit the Web site at https://www.nih.gov/precision-medicine-initiative-cohort-program.

Dated: June 23, 2016.
Lawrence A. Tabak,
Deputy Director, National Institutes of Health.

[FR Doc. 2016-15395 Filed 6-28-16; 8:45 am]

BILLING CODE 4140-01-P